DEPARTMENT OF ENERGY

Federal Energy Regulatory Commission

Combined Notice of Filings

August 4, 2008.

Take notice that the Commission has received the following Natural Gas Pipeline Rate and Refund Report filings:

Docket Numbers: RP06-298-007.

Applicants: Public Service Commission of New York

Description: National Fuel Gas Supply Corporation submits its Semi-Annual Report of Operational Sales of Gas pursuant to Section 40.3 etc.

Filed Date: 07/30/2008.

Accession Number: 20080731-0138.

Comment Date: 5 p.m. Eastern Time on Monday, August 11, 2008.

Docket Numbers: RP96-320-094.

Applicants: Gulf South Pipeline Company, LP.

Description: Gulf South Pipeline Co, LP submits a capacity release agreement containing negotiated rate provisions executed.

Filed Date: 07/30/2008.

Accession Number: 20080731-0139.

Comment Date: 5 p.m. Eastern Time on Monday, August 11, 2008.

Docket Numbers: RP08-457-000.

Applicants: Transcontinental Gas Pipe Line Corp.

Description: LSS/GSS Dominion flow thru refund 4/1/07—3/31/08.

Filed Date: 07/29/2008.

Accession Number: 20080729-5017.

Comment Date: 5 p.m. Eastern Time on Monday, August 11, 2008.

Docket Numbers: RP08-460-000.

Applicants: Transcontinental Gas Pipe Line Corp.

Description: Transcontinental Gas Pipe Line Corp submits Forty-First Revised Sheet 20 to FERC Gas Tariff, Third Revised Volume 1, to be effective 8/1/08.

Filed Date: 07/29/2008.

Accession Number: 20080730-0041.

Comment Date: 5 p.m. Eastern Time on Monday, August 11, 2008.

Docket Numbers: RP08-461-000.

Applicants: Garden Banks Gas Pipeline, LLC.

Description: Request for Extension of Time of Garden Banks Gas Pipeline, LLC.

Filed Date: 07/29/2008.

Accession Number: 20080729-5074.

Comment Date: 5 p.m. Eastern Time on Monday, August 11, 2008.

Docket Numbers: RP08-462-000.

Applicants: Enbridge Pipelines (Midla) L.L.C.

Description: Request of Enbridge Pipelines (Midla) L.L.C. for Extension of Time to Implement an Electronic Short-Term Capacity Release Bidding System.

Filed Date: 07/29/2008.

Accession Number: 20080729-5075.

Comment Date: 5 p.m. Eastern Time on Monday, August 11, 2008.

Docket Numbers: RP08-463-000.

Applicants: Enbridge Offshore Pipelines (UTOS) LLC.

Description: Request for Extension of Time of Enbridge Offshore Pipelines (UTOS) LLC.

Filed Date: 07/29/2008.

Accession Number: 20080729-5076.

Comment Date: 5 p.m. Eastern Time on Monday, August 11, 2008.

Docket Numbers: RP08-465-000.

Applicants: Nautilus Pipeline Company, L.L.C.

Description: Request of Nautilus Pipeline Company, L.L.C. for Extension of Time to Implement an Electronic Short-Term Release Bidding System.

Filed Date: 07/29/2008.

Accession Number: 20080729-5077.

Comment Date: 5 p.m. Eastern Time on Monday, August 11, 2008.

Docket Numbers: RP08-470-000.

Applicants: Dominion South Pipeline Company, LP.

Description: Dominion South Pipeline Company, LP's Report of Penalty Revenue its FERC Gas Tariff, Original Volume 1 for the period commencing 5/1/07-4/30/08.

Filed Date: 07/31/2008.

Accession Number: 20080731-5022.

Comment Date: 5 p.m. Eastern Time on Tuesday, August 12, 2008.

Docket Numbers: RP08-471-000.

Applicants: Questar Overthrust Pipeline Company.

Description: Questar Overthrust Pipeline Company submits its annual fuel gas reimbursement report for the period ended 5/31/08.

Filed Date: 07/31/2008.

Accession Number: 20080731-0218.

Comment Date: 5 p.m. Eastern Time on Tuesday, August 12, 2008.

Docket Numbers: RP08-472-000.

Applicants: National Fuel Gas Supply Corporation.

Description: National Fuel Gas Supply submits 117th Revised Sheet 9 to its FERC Gas Tariff, Fourth Revised Volume 1.

Filed Date: 07/31/2008.

Accession Number: 20080731-0217.

Comment Date: 5 p.m. Eastern Time on Tuesday, August 12, 2008.

Docket Numbers: RP08-473-000.

Applicants: Columbia Gas Transmission Corporation.

Description: Columbia Gas Transmission Corporation submits Eighty-Seventh Revised 25 to FERC Gas Tariff, Second Revised Volume 1, to be effective 8/1/08.

Filed Date: 07/31/2008.

Accession Number: 20080801-0133.

Comment Date: 5 p.m. Eastern Time on Tuesday, August 12, 2008.

Docket Numbers: RP08-474-000.

Applicants: Algonquin Gas Transmission, LLC.

Description: Algonquin Gas Transmission, LLC submits Second Revised Sheet 616 to FERC Gas Tariff, Fifth Revised Volume 1, to be effective 9/1/08.

Filed Date: 07/31/2008.

Accession Number: 20080804-0047.

Comment Date: 5 p.m. Eastern Time on Tuesday, August 12, 2008.

Docket Numbers: RP08-475-000.

Applicants: East Tennessee Natural Gas, LLC.

Description: East Tennessee Natural Gas, LLC submits Third Revised Sheet 401 to FERC Gas Tariff, Third Revised Volume 1, to be effective 9/1/08.

Filed Date: 07/31/2008.

Accession Number: 20080804-0046.

Comment Date: 5 p.m. Eastern Time on Tuesday, August 12, 2008.

Docket Numbers: RP08-476-000.

Applicants: Texas Eastern Transmission, LP.

Description: Texas Eastern Transmission, LP submits Fifth Revised Sheet 645 to FERC Gas Tariff, Seventh Revised Volume 1, to be effective 9/1/08.

Filed Date: 07/31/2008.

Accession Number: 20080804-0045.

Comment Date: 5 p.m. Eastern Time on Tuesday, August 12, 2008.

Docket Numbers: RP08-477-000.

Applicants: Transcontinental Gas Pipeline Corporation.

Description: Transcontinental Gas Pipeline Corp submits Fourth Revised Sheet 33A et al. to FERC Gas Tariff, Third Revised Volume 1, to be effective 9/1/08.

Filed Date: 08/01/2008.

Accession Number: 20080804-0043.

Comment Date: 5 p.m. Eastern Time on Wednesday, August 13, 2008.

Docket Numbers: RP08-478-000.

Applicants: CenterPoint Energy Gas Transmission Co.

Description: CenterPoint Energy Gas Transmission Co submits Fifteenth Revised Sheet 32 et al. to FERC Gas Tariff, Sixth Revised Volume 1, to be effective 9/1/08.

Filed Date: 08/01/2008.

Accession Number: 20080804-0044.

Comment Date: 5 p.m. Eastern Time on Wednesday, August 13, 2008.

Docket Numbers: RP08-480-000.

Applicants: Colorado Interstate Gas Company.

Description: Colorado Interstate Gas Company requests that the Commission allow for an out-of-time adjustment to their transportation fuel gas and storage fuel gas reimbursement percentages etc., effective 9/1/08.

Filed Date: 08/01/2008.

Accession Number: 20080804-0124.

Comment Date: 5 p.m. Eastern Time on Wednesday, August 13, 2008.

Docket Numbers: CP08-18-001.

Applicants: Northern Natural Gas Company.

Description: Northern Natural Gas Company submits 78 Revised Sheet No. 53 et al. to FERC Gas Tariff, Fifth Revised Volume 1, to be effective 09/01/08.

Filed Date: 07/31/2008.

Accession Number: 20080804-0042.

Comment Date: 5 p.m. Eastern Time on Wednesday, August 13, 2008.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-18257 Filed 8-7-08; 8:45 am]

BILLING CODE 6717-01-P